FEDERAL MARITIME COMMISSION

Notice of Agreements Filed

The Commission hereby gives notice of the filing of the following agreements under the Shipping Act of 1984. Interested parties can review or obtain copies of agreements at the Washington, DC, offices of the Commission, 800 North Capitol Street, NW., Room 940. Interested parties may submit comments on an agreement to the Secretary, Federal Maritime Commission, Washington, DC 20573, within 10 days of the date this notice appears in the Federal Register.

Agreement No.: 011679-005.

Title: ASF/SERC Agreement.

Parties:

China Shipping Container Lines, Co. Ltd.;

COSCO Container Lines Co., Ltd.;

Evergreen Marine Corp. (Taiwan) Ltd.;

Hanjin Shipping Co., Ltd.;

Hyundai Merchant Marine Co., Ltd.;

Kawasaki Kisen Kaisha, Ltd.;

Mitsui O.S.K. Lines Ltd.;

Nippon Yusen Kaisha;

Orient Overseas Container Line Ltd.; and

Yang Ming Marine Transport Corp.; and

Wan Hai Lines Ltd.

Synopsis: The amendment adds APL Co. PTE Ltd. and American President Lines, Ltd. (as a single party) and Sinotrans Container Lines Co., Ltd. as parties to the agreement.

Dated: November 28, 2003.
By Order of the Federal Maritime Commission.
Karen V. Gregory,
Acting Assistant Secretary.

[FR Doc. 03-30129 Filed 12-2-03; 8:45 am]

BILLING CODE 6730-01-P